NATIONAL ARCHIVES AND RECORDS ADMINISTRATION

Nixon Presidential Historical Materials: Opening of Materials

AGENCY: National Archives and Records Administration.

ACTION: Notice of opening of additional materials.

SUMMARY: This notice announces the opening of Nixon Presidential Historical Materials by the Richard Nixon Presidential Library and Museum, a division of the National Archives and Records Administration. Notice is hereby given that the Agency has identified, inventoried, and prepared for public access additional textual materials and sound recordings from among the Nixon Presidential Historical Materials. Furthermore, in response to the July 29, 2011, court order in the case of In Re Petition of Stanley Kutler, et al., the National Archives and Records Administration (NARA) will be separately opening the transcript of President Richard M. Nixon's grand jury testimony of June 23-24, 1975, and associated materials from Record Group 460, Records of the Watergate Special Prosecution Force (WSPF); with certain information redacted as required by law, including the PRMPA. The materials associated with President Nixon's grand jury testimony include segments of five transcripts of Nixon White House taped conversations recorded in May 1971, October 1971 and April 1973 that were previously withheld under the PRMPA when the WSPF transcripts were released in June 1991. Those segments, which no longer need to be withheld, will also be released on November 10, 2011 at the National Archives at College Park, Maryland, as well as at the Nixon Library in Yorba Linda, California.

DATES: The Richard Nixon Presidential Library and Museum intends to make the materials described in this notice available to the public on Thursday, November 10, 2011, at the Richard Nixon Library and Museum's primary location in Yorba Linda, California, beginning at 9 a.m. P.S.T./12 p.m. E.S.T. In accordance with 36 CFR 1275.44, any person who believes it necessary to file a claim of legal right or privilege concerning access to Nixon Presidential Historical Materials must notify the Archivist of the United States in writing of the claimed right, privilege, or defense within 30 days of the publication of this notice. The formerly redacted segments of the WSPF tape transcripts associated with the grand jury testimony of President Nixon will be made available to the public in the research room of the National Archives at College Park, located at 8601 Adelphi Road, College Park, Maryland, beginning at 12 p.m. E.S.T.

ADDRESSES: The Richard Nixon Presidential Library and Museum, a division of the National Archives, is located at 18001 Yorba Linda Boulevard., Yorba Linda, California. The National Archives at College Park is located at 8601 Adelphi Road, College Park, Maryland. Researchers must have a NARA researcher card, which they may obtain when they arrive at either facility. Selections from the materials described in paragraphs 1 through 5 of this notice will be available at http://www.nixonlibrary.gov. The transcript of President Nixon's grand jury testimony and associated materials, which include the formerly redacted segments of the WSPF tape transcripts, will be available at http://www.archives.gov. Petitions asserting a legal or constitutional right or privilege that would prevent or limit public access to Nixon Presidential Historical Materials must be sent to the Archivist of the United States, National Archives at College Park, 8601 Adelphi Road., College Park, Maryland 20740-6001.

FOR FURTHER INFORMATION CONTACT: Timothy Naftali, Director, Richard Nixon Presidential Library and Museum, 714-983-9120.

SUPPLEMENTARY INFORMATION: In accordance with section 104 of Title I of the Presidential Recordings and Materials Preservation Act (PRMPA, 44 U.S.C. 2111 note) and 1275.42(b) of the PRMPA Regulations implementing the Act (36 CFR part 1275), NARA has identified, inventoried, and prepared for public access additional textual materials and sound recordings from among the Nixon Presidential Historical Materials.

The following materials will be made available in accordance with this notice:

1. Previously restricted textual materials. Volume: 1 cubic foot. A number of textual materials previously withheld from public access have been reviewed for release and/or declassified under the systematic declassification review provisions and under the mandatory review provisions of Executive Order 13526, the Freedom of Information Act (5 U.S.C. 552), or in accordance with 36 CFR 1275 (Public Access regulations). The materials are from integral file segments for the National Security Council (NSC Files and NSC Institutional Files); the Henry A. Kissinger (HAK) Office Files, including HAK telephone conversation transcripts; White House Special Files, Staff Member and Office Files, John D. Ehrlichman; and White House Central Files, Staff Member and Office Files, Anne L. Armstrong.

2. White House Central Files, Staff Member and Office Files. Volume: 18 cubic feet. The White House Central Files Unit was a permanent organization within the White House complex that maintained a central filing and retrieval system for the records of the President and his staff. The Staff Member and Office Files consist of materials that were transferred to the Central Files but were not incorporated into the Subject Files. The following file groups will be made available: Kenneth Cole (Accretion).

3. White House Central Files, Name Files: Volume: <1 cubic foot. The Name Files were used for routine materials filed alphabetically by the name of the correspondent; copies of documents in the Name Files were usually filed by subject in the Subject Files. The following Name Files folders will be made available: Burroughs, U-Z; Silberman, Laurence.

4. White House Special Files, Staff Member and Office Files. Volume: <60 minutes of audio recordings from the following collections: President's Personal File (PPF).

5. Record Group 460, Records of the Watergate Special Prosecution Force (WSPF). Volume: <1 cubic foot. The segments of five transcripts of White House taped conversations from 1971 and 1973, which are part of the materials associated with President Richard M. Nixon's June 23-24, 1975 grand jury testimony, were formerly redacted as required by law, including the PRMPA.

Dated: October 5, 2011.
David Ferriero,
Archivist of the United States.

[FR Doc. 2011-26165 Filed 10-7-11; 8:45 am]

BILLING CODE 7515-01-P